DEPARTMENT OF COMMERCE

International Trade Administration

[A-552-802]

Certain Frozen Warmwater Shrimp From the Socialist Republic of Vietnam: Final Results of Antidumping Duty Administrative Review, 2016-2017

AGENCY: Enforcement and Compliance, International Trade Administration, Department of Commerce.

SUMMARY: The Department of Commerce (Commerce) determines that Fimex VN sold certain frozen warmwater shrimp from the Socialist Republic of Vietnam (Vietnam) at less than normal value (NV) during the period of review (POR), February 1, 2016, through January 31, 2017.

DATES: Applicable September 14, 2018.

FOR FURTHER INFORMATION CONTACT: Irene Gorelik or Josh Simonidis, AD/CVD Operations, Office VIII, Enforcement and Compliance, International Trade Administration, Department of Commerce, 1401 Constitution Avenue NW, Washington, DC 20230; telephone: (202) 482-6905 or (202) 482-0608, respectively.

SUPPLEMENTARY INFORMATION: On March 12, 2018, Commerce published the Preliminary Results.¹ On August 9, 2018, we invited interested parties to comment on the Preliminary Results.² For events since the Preliminary Results, see Issues and Decision Memorandum.³

¹ See Certain Frozen Warmwater Shrimp from the Socialist Republic of Vietnam: Preliminary Results of Antidumping Duty Administrative Review and Preliminary Determination of No Shipments; 2016-2017, 83 FR 10673 (March 12, 2018) (Preliminary Results) and accompanying Preliminary Decision Memorandum.

² See Memorandum re: “Case and Rebuttal Brief Schedule,” dated August 9, 2018.

³ See Memorandum re: “Issues and Decision Memorandum for the Final Results” (Issues and Decision Memorandum), dated concurrently with, and hereby adopted by, this notice.

Scope of the Order ⁴

⁴ See Notice of Amended Final Determination of Sales at Less Than Fair Value and Antidumping Duty Order: Certain Frozen Warmwater Shrimp from the Socialist Republic of Vietnam, 70 FR 5152 (February 1, 2005) (Order).

The merchandise subject to the Order is certain frozen warmwater shrimp. The product is currently classified under the following Harmonized Tariff Schedule of the United States item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. The written description of the scope of the Order is dispositive. A full description of the scope of the Order is available in the accompanying Issues and Decision Memorandum.

Analysis of Comments Received

All issues raised in the case and rebuttal briefs by parties to this review are addressed in the accompanying Issues and Decision Memorandum. A list of the issues which parties raised, and to which we respond in the Issues and Decision Memorandum is attached at Appendix I. The Issues and Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Issues and Decision Memorandum can be accessed directly on the internet at http://enforcement.trade.gov/frn/index.html. The signed Issues and Decision Memorandum and the electronic version of the Issues and Decision Memorandum are identical in content.

Final Determination of No Shipments

In the Preliminary Results, Commerce determined that the following companies, as initiated, did not have any reviewable transactions during the POR: (1) Au Vung One Seafood Processing Import & Export Joint Stock Company; (2) Bien Dong Seafood Co., Ltd.; (3) BIM Seafood Joint Stock Company; (4) Cafatex Corporation and its claimed aka names (a) Taydo Seafood Enterprise and (b) Xi Nghiep Che Bien Thuy Sue San Xuat Cantho; (5) Cam Ranh Seafoods; (6) Ngo Bros, also initiated as, Ngo Bros Seaproducts Import-Export One Member Company Limited, and NGO BROS Seaproducts Import-Export One Member Company Limited; (7) Quang Minh Seafood Co., Ltd., also initiated as Quang Minh Seafood Co LTD; (8) Tacvan Frozen Seafood Processing Export Company, also initiated as Tacvan Seafoods Company, Tacvan Seafoods Company (“TACVAN”), and Tacvan Seafoods Company (TACVAN); (9) Thong Thuan Seafood Company Limited; (10) Trong Nhan Seafood Company Limited, also initiated as Trong Nhan Seafood Co., Ltd. (“Trong Nhan”); and (11) Vinh Hoan Corp. As we have not received any information to contradict this preliminary determination, we determine for these final results that the above-named companies did not have any reviewable entries of subject merchandise during the POR and will issue appropriate instructions that are consistent with our “automatic assessment” clarification.⁵

⁵ See Non-Market Economy Antidumping Proceedings: Assessment of Antidumping Duties, 76 FR 65694 (October 24, 2011) (Assessment of AD Duties).

Changes Since the Preliminary Results

Commerce made changes to Fimex VN's preliminary dumping margin based on verification findings. For detailed information, see the Issues and Decision Memorandum.

Final Results of Review

In the Preliminary Results, Commerce found that 30 companies for which a review was requested had not established eligibility for a separate rate and were considered to be part of the Vietnam-wide entity.⁶ We continue to find, for the final results, that these 30 companies are ineligible for a separate rate (see Appendix II). Commerce's change in policy regarding conditional review of the Vietnam-wide entity applies to this administrative review.⁷ Under this policy, the Vietnam-wide entity will not be under review unless a party specifically requests, or Commerce self-initiates, a review of the entity. Because no party requested a review of the Vietnam-wide entity, the entity is not under review and the entity's rate is not subject to change. For companies for which a review was requested and that have established eligibility for a separate rate, Commerce determines that the following weighted-average dumping margins exist:

⁶ See Appendix II for a full list of the 30 companies (accounting for duplicate names initiated upon); see also Preliminary Results at Appendix II.

⁷ See Antidumping Proceedings: Announcement of Change in Department Practice for Respondent Selection in Antidumping Duty Proceedings and Conditional Review of the Nonmarket Economy Entity in NME Antidumping Duty Proceedings, 78 FR 65963 (November 4, 2013).

Exporter ⁸ | Weighted- average margin (percent)
Fimex VN | 4.58
Au Vung Two Seafood Processing Import & Export Joint Stock Company, aka AU VUNG TWO SEAFOOD | 4.58
Bac Lieu Fisheries Joint Stock Company | 4.58
Bentre Forestry and Aquaproduct Import-Export Joint Stock Company, aka FAQUIMEX | 4.58
C.P. Vietnam Corporation | 4.58
Cadovimex Seafood Import-Export and Processing Joint Stock Company | 4.58
Camau Frozen Seafood Processing Import Export Corporation, aka Camimex | 4.58
Camau Seafood Processing and Service Joint Stock Corporation, aka Camau Seafood Processing and Service Joint-Stock Corporation, aka CASES | 4.58
Can Tho Import Export Fishery Limited Company, aka CAFISH | 4.58
Cuulong Seaproducts Company, aka Cuulong Seapro | 4.58
Fine Foods Co, aka FFC | 4.58
Green Farms Seafood Joint Stock Company | 4.58
Hai Viet Corporation, aka HAVICO | 4.58
Investment Commerce Fisheries Corporation | 4.58
Khanh Sung Company, Ltd | 4.58
Kim Anh Company Limited | 4.58
Minh Hai Export Frozen Seafood Processing Joint-Stock Company, aka Minh Hai Jostoco | 4.58
Minh Hai Joint-Stock Seafoods Processing Company, aka Sea Minh Hai, aka Seaprodex Minh Hai, aka Minh Hai Joint Stock Seafoods | 4.58
Ngoc Tri Seafood Joint Stock Company | 4.58
Nha Trang Seaproduct Company, aka NT Seafoods Corporation, aka Nha Trang Seafoods-F89 Joint Stock Company, aka NTSF Seafoods Joint Stock Company | 4.58
Phuong Nam Foodstuff Corp | 4.58
Seaprimexco Vietnam, aka Seaprimexco | 4.58
Taika Seafood Corporation | 4.58
Tan Phong Phu Seafood Co., Ltd | 4.58
Thanh Doan Sea Products Import & Export Processing Joint-Stock Company, aka THADIMEXCO | 4.58
Thong Thuan-Cam Ranh Seafood Joint Stock Company | 4.58
Thong Thuan Company Limited | 4.58
Thuan Phuoc Seafoods and Trading Corporation | 4.58
Trung Son Seafood Processing Joint Stock Company, aka Trung Son Seafood Processing JSC | 4.58
UTXI Aquatic Products Processing Corporation | 4.58
Viet Foods Co., Ltd | 4.58
Vietnam Clean Seafood Corporation, aka Vina Cleanfood, aka Viet Nam Clean Seafood Corporation | 4.58
Vietnam Fish One Co., Ltd | 4.58

Rate for Non-Selected Companies

Under section 735(c)(5)(A) of the Tariff Act of 1930, as amended (Act), the all-others rate is normally an amount equal to the weighted average of the estimated weighted-average dumping margins established for exporters and producers individually investigated, excluding any zero and de minimis margins, and any margins determined entirely on the basis of facts available. Accordingly, under Commerce's practice, in an administrative review of a nonmarket economy antidumping order, when only one weighted-average dumping margin for an individually investigated respondent is above de minimis and not based entirely on facts available, the separate rate will be equal to that single, above de minimis rate. In these final results, Commerce calculated a rate for Fimex VN that is not zero, de minimis, or based entirely on facts available. Therefore, Commerce has assigned to the companies that have not been individually examined but have demonstrated their eligibility for a separate rate a margin of 4.58 percent, which is the final dumping margin calculated for Fimex VN.

⁸ Due to the issues we have had in the past with variations of exporter names related to this Order, we remind exporters that the names listed below are the exact names, including spelling and punctuation, which Commerce will provide to CBP and which CBP will use to assess POR entries and collect cash deposits.

Disclosure and Public Comment

We will disclose the calculations performed within five days of the date of publication of this notice to parties in this proceeding in accordance with 19 CFR 351.224(b).

Assessment Rates

Pursuant to section 751(a)(2)(A) of the Act and 19 CFR 351.212(b), Commerce will determine, and U.S. Customs and Border Protection (CBP) shall assess, antidumping duties on all appropriate entries of subject merchandise in accordance with the final results of this review. Commerce intends to issue assessment instructions to CBP 15 days after the date of publication of these final results of review.

For Fimex VN, Commerce will calculate importer-specific assessment rates on the basis of the ratio of the total amount of dumping calculated for the importer's examined sales and the total entered value of sales. Where we do not have entered values for all U.S. sales to a particular importer/customer, we will calculate a per-unit assessment rate by aggregating the antidumping duties due for all U.S. sales to that importer (or customer) and dividing this amount by the total quantity sold to that importer (or customer).⁹ To determine whether the duty assessment rates are de minimis, in accordance with the requirement set forth in 19 CFR 351.106(c)(2), we will calculate importer- (or customer-) specific ad valorem ratios based on the estimated entered value. Where either a respondent's weighted average dumping margin is zero or de minimis, or an importer- (or customer-) specific ad valorem rate is zero or de minimis, we will instruct CBP to liquidate appropriate entries without regard to antidumping duties.¹⁰

⁹ See 19 CFR 351.212(b)(1).

¹⁰ See 19 CFR 352.106(c)(2); Antidumping Proceeding: Calculation of the Weighted-Average Dumping Margin and Assessment Rate in Certain Antidumping Proceedings; Final Modification, 77 FR 8101, 8103 (February 14, 2012) (Final Modification for Reviews).

For the companies receiving a separate rate, we intend to assign an ad valorem assessment rate of 4.58 percent, consistent with the methodology described above. With regard to the companies identified in Appendix II as part of the Vietnam-Wide Entity, we will instruct CBP to apply an ad valorem assessment rate of 25.76 percent to all entries of subject merchandise during the POR which were produced and/or exported by those companies.¹¹

¹¹ See Final Determination of Sales at Less Than Fair Value: Certain Frozen and Canned Warmwater Shrimp from the Socialist Republic of Vietnam, 69 FR 71005 (December 8, 2004).

Additionally, consistent with its assessment practice in non-market economy (NME) cases, for any exporter under review which Commerce determined had no shipments of the subject merchandise during the POR, any suspended entries that entered under that exporter's case number (i.e., at that exporter's rate) will be liquidated at the NME-wide rate.¹²

¹² For a full discussion of this practice, see Assessment of AD Duties, 76 FR at 65694-65695.

Cash Deposit Requirements

The following cash deposit requirements will be effective upon publication of the final results of this administrative review for shipments of the subject merchandise from Vietnam entered, or withdrawn from warehouse, for consumption on or after the publication date, as provided by sections 751(a)(2)(C) of the Act: (1) For the companies listed above, which have a separate rate, the cash deposit rate will be that established in the final results of this review (except, if the rate is zero or de minimis, then zero cash deposit will be required); (2) for previously investigated or reviewed Vietnamese and non-Vietnamese exporters not listed above that received a separate rate in a prior segment of this proceeding, the cash deposit rate will continue to be the existing exporter-specific rate; (3) for all Vietnamese exporters of subject merchandise that have not been found to be entitled to a separate rate, the cash deposit rate will be that for the Vietnam-wide entity; and (4) for all non-Vietnamese exporters of subject merchandise which have not received their own rate, the cash deposit rate will be the rate applicable to the Vietnamese exporter that supplied that non-Vietnamese exporter. These deposit requirements, when imposed, shall remain in effect until further notice.

Reimbursement of Duties

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

This determination is issued and published in accordance with sections 751(a)(1) and 777(i)(1) of the Act, 19 CFR 351.213(h) and 19 CFR 351.221(b)(5).

Dated: September 7, 2018.
Gary Taverman,
Deputy Assistant Secretary for Antidumping and Countervailing Duty Operations, performing the non-exclusive functions and duties of the Assistant Secretary for Enforcement and Compliance.

Appendix I—List of Issues Discussed in the Final Decision Memorandum

I. Summary

II. Background

III. Scope of the Order

IV. Discussion of the Issues

Comment 1: Fresh Shrimp Surrogate Value

Comment 2: Fimex VN Shrimp Input Conversion

Comment 3: Separate Rate Status for Trade Names

A. Thuan Phuoc Seafoods and Trading Corporation

B. Seaprodex Minh Hai

C. Camau Frozen Seafood Processing Import Export Corporation

D. Can Tho Import Export Fishery Limited Company

E. Minh Hai Export Frozen Seafood Processing Joint-Stock Company

F. Fine Foods Co.

G. Bentre Forestry and Aquaproduct Import-Export Joint Stock Company

H. UTXI Aquatic Products Processing Corporation

I. Abbreviated Names for Other Companies

V. Recommendation

Appendix II—Companies Subject to Review Determined To Be Part of the Vietnam-Wide Entity

1. Amanda Seafood Co., Ltd.

2. Asia Food Stuffs Import Export Co., Ltd.

3. Binh Thuan Import-Export Joint Stock Company (THAIMEX)

4. B.O.P. Limited Co.

5. Coastal Fisheries Development Corporation (“COFIDEC”)

6. CJ Freshway (FIDES Food System Co., Ltd.)

7. Dong Hai Seafood Limited Company

8. Duc Cuong Seafood Trading Co., Ltd.

9. Frozen Seafoods Factory No. 32 (Tho Quang Seafood Processing and Export Company)

10. Gallant Dachan Seafood Co., Ltd.

11. Gallant Ocean (Vietnam) Co. Ltd., also initiated under Gallant Ocean (Viet Nam) Co., Ltd. (“Gallant Ocean Vietnam”)

12. Hanh An Trading Service Co., Ltd.

13. Hoang Phuong Seafood Factory

14. Huynh Huong Seafood Processing

15. JK Fish Co., Ltd.

16. Khai Minh Trading Investment Corporation

17. Long Toan Frozen Aquatic Products Joint Stock Company

18. Minh Cuong Seafood Import-Export Processing (“MC Seafood”)

19. Minh Phu Seafood Corporation

20. Nam Hai Foodstuff and Export Company Ltd

21. New Wind Seafood Co., Ltd.

22. Nha Trang Fisheries Joint Stock Company (“Nha Trang Fisco”), also initiated under Nha Trang Fisheries Joint Stock Company

23. Nhat Duc Co., Ltd.

24. Phu Cuong Jostoco Seafood Corporation

25. Quoc Ai Seafood Processing Import Export Co., Ltd.

26. Saigon Food Joint Stock Company

27. Tan Thanh Loi Frozen Food Co., Ltd.

28. Thinh Hung Co., Ltd.

29. Trang Khan Seafood Co., Ltd.

30. Xi Nghiep Che Bien Thuy Suc San Xuat Kau Cantho

[FR Doc. 2018-20030 Filed 9-13-18; 8:45 am]

BILLING CODE 3510-DS-P